DEPARTMENT OF VETERANS AFFAIRS

Joint Biomedical Laboratory Research and Development and Clinical Science Research and Development Services Scientific Merit Review Board, Notice of Meeting

The Department of Veterans Affairs (VA) gives notice under the Federal Advisory Committee Act, 5 U.S.C. Ch.10, that a meeting of the Joint Biomedical Laboratory Research and Development and Clinical Science Research and Development Services Scientific Merit Review Board will be held July 9, 2024, via Webex. The meeting will be held between 3 p.m. and 5 p.m. EDT. The meeting will be closed to the public from 3:30-5 p.m. EDT for scientific review and the discussion, examination, and reference to the research applications. Discussions will involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by Public Law 92-463 subsection 10(d), as amended by Public Law 94-409, closing the committee meeting is in accordance with 5 U.S.C. 552b(c)(6) and (9)(B).

The objective of the Board is to provide for the fair and equitable selection of the most meritorious research projects for support by VA research funds and to offer advice for research program officials on program priorities and policies. The ultimate objective of the Board is to ensure the high quality and mission relevance of VA's legislatively mandated Biomedical Laboratory and Clinical Science Research and Development programs.

Board members advise the Directors of the Biomedical Laboratory and Clinical Sciences Research Services and the Chief Research and Development Officer on the scientific and technical merit, the mission relevance, and the protection of human subjects of Biomedical Laboratory and Clinical Sciences Research and Development proposals. The Board does not consider grants, contracts, or other forms of extramural research.

Members of the public may attend the open portion of the meeting. To attend the open portion of the meeting (3-3:30 p.m. EDT), the public may join by dialing the phone number 1-404-397-1596 and entering the meeting number (access code): 2820 097 2881. Public comments accepted during the open portion of the meeting and Public stakeholders who want to speak to the committee will be afforded 3 minutes during the public comment period. These stakeholders must notify the DFO of their intention to speak to the Committee.

Written public comments must be sent to Michael R. Burgio, Ph.D., Designated Federal Officer, Advisory Committee Management Office, 811 Vermont Avenue NW, Room 4342A, Washington, DC 20006, or to Michael.Burgio@va.gov at least five days before the meeting. The written public comments will be shared with the board members. The public may not attend the closed portion of the meeting as disclosure of research information could significantly obstruct implementation of proposed agency action regarding the research proposals (Public Law 92-463 subsection 10(d), as amended by Public Law 94-409, closing the committee meeting is in accordance with 5 U.S.C. 552b(c)(6) and (9)(B).

Dated: May 21, 2024.
LaTonya L. Small,
Federal Advisory Committee Management Officer.

[FR Doc. 2024-11549 Filed 5-24-24; 8:45 am]

BILLING CODE 8320-01-P